DEPARTMENT OF JUSTICE

Notice of Proposed Settlement Agreement and Draft Restoration Plan Under the Comprehensive Environmental Response, Compensation, and Liability Act

Notice is hereby given that the United States of America, on behalf of the Department of the Interior (“DOI”) acting through the U.S. Fish and Wildlife Service and the Commonwealth of Virginia, acting through the Virginia Department of Environmental Quality (VDEQ) on behalf of the Virginia Secretary of Natural Resources (collectively “Trustees”), are providing an opportunity for public comment on a proposed Settlement Agreement (“Settlement Agreement”) among the Trustees and AdvanSix Resins & Chemicals, LLC and AdvanSix Inc. (“AdvanSix”). The Trustees are also providing notice of an opportunity for public comment on a draft Restoration Plan/Environmental Assessment (“RP/EA”).

The settlement resolves the civil claims of the Trustees against AdvanSix arising under their natural resource trustee authority under the Comprehensive Environmental Response, Compensation, and Liability Act (CERCLA), Section 311 of the Clean Water Act (“CWA”), 33 U.S.C. 1321, and applicable state law for injury to, impairment of, destruction of, and loss of use of natural resources as a result of releases of hazardous substances on or about November 25, 2014 and October 13, 2017 into Gravelly Run, a tributary of the James River, from the AdvanSix facility located in located in Hopewell, Virginia (the “Gravelly Run Spills”). The November 25, 2014 spill consisted of approximately 5,500 pounds of ammonium carbonate, of which approximately 600 pounds discharged directly to an outfall on Gravelly Run, resulting in a significant fish kill. The October 13, 2017 spill involved the release of phenol, causing another fish kill. Under the proposed Settlement Agreement, AdvanSix agrees to pay $184,310 to the DOI Natural Resource Damage Assessment and Restoration Fund to be used to restore, replace, rehabilitate, or acquire the equivalent of those resources injured by the Gravelly Run Spills, as proposed in the draft RP/EA. In addition, AdvanSix agrees to pay $70,690 to the Trustees for past assessment costs. AdvanSix will receive from the Trustees a covenant not to sue for the claims resolved by the settlement, including assessment costs.

In accordance with CERCLA and the CWA, the Trustees have also written a draft RP/EA that describes proposed alternatives for restoring the natural resources and natural resource services injured by the Gravelly Run Spills. The preferred restoration alternative selected by the Trustees in the Draft RP/EA is the acquisition of approximately 25 acres of marsh and upland properties along Powell Creek, a tributary of the James River and ultimate transfer to the James River National Wildlife Refuge in Prince George County, Virginia for long-term stewardship and conservation in perpetuity.

The publication of this notice opens a period for public comment on the proposed Settlement Agreement and draft RP/EA. Comments on the proposed Settlement Agreement should be addressed to the Assistant Attorney General, Environment and Natural Resources Division and should refer to the AdvanSix Settlement Agreement, DJ No. 90-5-1-1-11263. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department website: https://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $3.75 (25 cents per page reproduction cost) payable to the United States Treasury.

Comments on the draft RP/EA may be submitted to the Trustees either electronically or by mail. Written comments on the draft RP/EA should reference the AdvanSix RP/EA and be addressed to: Susan Lingenfelser, U.S. Fish and Wildlife Service, 6669 Short Lane, Gloucester, Virginia 23061 or emailed to susan_lingenfelser@fws.gov.

All comments must be submitted no later than thirty (30) days after the publication date of this notice.

During the public comment period, a copy of the draft RP/EA will be available electronically at https://www.cerc.usgs.gov/orda_docs/DocHandler.ashx?task=get&ID=5856. A copy of the draft RP/EA may also be examined at the Virginia Field Office in Gloucester, Virginia. Arrangements to view the documents must be made in advance by contacting Susan Lingenfelser at (804) 824-2415.

Jeffrey Sands,
Assistant Section Chief, Environmental Enforcement Section, Environment and Natural Resources Division.

[FR Doc. 2020-02774 Filed 2-11-20; 8:45 am]

BILLING CODE 4410-15-P